DEPARTMENT OF ENERGY

Federal Energy Regulatory Commission

[Project No. 11512-002]

John Bigelow; Notice of Availability of Draft Environmental Assessment

June 28, 2004.

In accordance with the National Environmental Policy Act of 1969 and the Federal Energy Regulatory Commission (Commission or FERC) regulations, 18 CFR part 380, the Office of Energy Projects staff (staff) reviewed the application for surrender of project license for the McKenzie Hydroelectric Project, located on the McKenzie River, Lane County, Oregon, and prepared a draft environmental assessment (DEA) for the project. In this DEA, staff analyzes the potential environmental effects of the surrender of license and concludes that the surrender would not constitute a major Federal action significantly affecting the quality of the human environment.

A copy of the DEA is available for review at the Commission in the Public Reference Room, or it may be viewed on the Commission's Web site at http://www.ferc.gov using the “e-Library” link. Enter the docket number P-11512 in the docket number field to access the document. For assistance, contact FERC Online Support at FERCOnlineSupport@ferc.gov or toll-free at 1-866-208-3676, or for TTY, (202) 502-8659.

Any comments should be filed by August 2, 2004, and should be addressed to Magalie R. Salas, Secretary, Federal Energy Regulatory Commission, 888 First Street, NE., Washington, DC 20426. Please refer to (McKenzie Project No. 11512-002, on all comments.

Comments may be filed electronically via the Internet in lieu of paper. See 18 CFR 385.2001 (a)(1)(iii) and the instructions on the Commission's Web site at http://www.ferc.gov under the “e-Filing” link. The Commission strongly encourages electronic filings.

You may register online at http://www.ferc.gov/docs-filing/esubscription.asp to be notified via e-mail of new filings and issuances related to this or other pending projects.

For further information, please contact Robert Fletcher at (202) 502-8901, or at robert.fletcher@ferc.gov.

Magalie R. Salas,
Secretary.

[FR Doc. E4-1478 Filed 7-6-04; 8:45 am]

BILLING CODE 6717-01-P